DEPARTMENT OF DEFENSE

Office of the Secretary

[Transmittal No. 19-69]

Arms Sales Notification

AGENCY: Defense Security Cooperation Agency, Department of Defense.

ACTION: Arms sales notice.

SUMMARY: The Department of Defense is publishing the unclassified text of an arms sales notification.

FOR FURTHER INFORMATION CONTACT: Karma Job at karma.d.job.civ@mail.mil or (703) 697-8976.

SUPPLEMENTARY INFORMATION: This 36(b)(1) arms sales notification is published to fulfill the requirements of section 155 of Public Law 104-164 dated July 21, 1996. The following is a copy of a letter to the Speaker of the House of Representatives, Transmittal 19-69 with attached Policy Justification and Sensitivity of Technology.

Dated: December 18, 2019.
Aaron T. Siegel,
Alternate OSD Federal Register Liaison Officer, Department of Defense.

Transmittal No. 19-69

Notice of Proposed Issuance of Letter of Offer Pursuant to Section 36(b)(1) of the Arms Export Control Act, as amended

(i) Prospective Purchaser: Government of New Zealand

(ii) Total Estimated Value:

Major Defense Equipment * | $ .6 billion
Other | $ .8 billion
TOTAL | $1.4 billion

(iii) Description and Quantity or Quantities of Articles or Services under Consideration for Purchase:

Major Defense Equipment (MDE):

Five (5) C-130J Aircraft

Twenty-four (24) Rolls Royce AE-2100D3 Turboprop Engines (20 installed, 4 spares)

Fifteen (15) Embedded Global Positioning System (GPS)/Inertial Navigation Systems (INS) (EGIs) with GPS Security Devices, Airborne (10 installed, 5 spares)

Eight (8) Multi-Information Distribution System (MIDS)/Link-16 Low Video Terminal (LVT)-BU2 (5 installed, 3 spares)

Thirteen (13) AN/AAQ-24(V)N LAIRCM (Large Aircraft Infrared Countermeasures) System Processor Replacement (LSPR) (10 installed, 3 spares)

Nineteen (19) Guardian Laser Transmitter Assembly for LAIRCM (15 installed, 4 spares)

Non-MDE: Also includes eight (8) AN/AAR-47 Missile Warning System (MWS); eight (8) AN/APN-241 Low Power Color Radar; eight (8) AN/ALR -56M Missile Warning System Receiver; fifteen (15) AN/ALE-47 Countermeasures Dispensing System; six (6) MX-20HD Electro-Optical/Infrared Imaging System; forty-four (44) Missile Warning Sensor, LAIRCM; Control Interface Unit Replacement, LAIRCM; classified memory cards, LAIRCM; Low Volume Terminal Cryptographic Modules KIV-55; AN/ARC-210 RT-1990A(C) Radio; AN/ARC- 164(V) RT-1518 Radio; AN/ARC-153 Tactical Air Navigation; AN/ARN-147 VHF Receiver; AN/ARC-190 HF Radio; AN/ARC-222 VHF Radio w/SINCGARS; Classified Tactical Manuals; Cartridge Activated Devices/Propellant Activated Devices; M206 Flares; MJU-64/B Decoy; BBU-35A/B Impulse Carts; Joint Mission Planning System; Classified Computer Identification Numbers; Electronic Combat International Security Assistance Program (ECISAP) support, support and test equipment, publications and technical documentation, personnel training and training equipment, U.S. Government and contractor engineering, technical and logistics support services; and other related elements of logistical and program support.

(iv) Military Department: Air Force (NZ-D-SAB and NZ-D-QAF)

(v) Prior Related Cases, if any: None

(vi) Sales Commission, Fee, etc., Paid, Offered, or Agreed to be Paid: None

(vii) Sensitivity of Technology Contained in the Defense Article or Defense Services Proposed to be Sold: See Attached Annex

(viii) Date Report Delivered to Congress: November 20, 2019

*As defined in Section 47(6) of the Arms Export Control Act.

POLICY JUSTIFICATION

New Zealand—C-130J Aircraft

The Government of New Zealand has requested to buy five (5) C-130J aircraft; twenty-four (24) Rolls Royce AE-2100D3 turboprop engines (20 installed, 4 spares); fifteen (15) Embedded Global Positioning System (GPS)/Inertial Navigation Systems (INS) (EGIs) with GPS security devices, airborne (10 installed, 5 spares); eight (8) Multi-Information Distribution System (MIDS)/Link-16 Low Video Terminal (LVT)-BU2 (5 installed, 3 spares); thirteen (13) AN/AAQ-24(V)N LAIRCM (Large Aircraft Infrared Countermeasures) System Processor Replacement (LSPR) (10 installed, 3 spares); and nineteen (19) Guardian Laser Transmitter Assembly for LAIRCM (15 installed, 4 spares). Also included are eight (8) AN/AAR-47 Missile Warning System (MWS); eight (8) AN/APN-241 Low Power Color Radar; eight (8) AN/ALR-56M Missile Warning System Receiver; fifteen (15) AN/ALE-47 Countermeasures Dispensing System; six (6) MX-20HD Electro-Optical/Infrared Imaging System; forty-four (44) Missile Warning Sensor, LAIRCM; Control Interface Unit Replacement, LAIRCM; classified memory cards, LAIRCM; Low Volume Terminal Cryptographic Modules KIV-55; AN/ARC-210 RT-1990A(C) Radio; AN/ARC- 164(V) RT-1518 Radio; AN/ARC-153 Tactical Air Navigation; AN/ARN-147 VHF Receiver; AN/ARC-190 HF Radio; AN/ARC-222 VHF Radio w/SINCGARS; Classified Tactical Manuals; Cartridge Activated Devices/Propellant Activated Devices; M206 Flares; MJU-64/B Decoy; BBU-35A/B Impulse Carts; Joint Mission Planning System; Classified Computer Identification Numbers; Electronic Combat International Security Assistance Program (ECISAP) support, support and test equipment, publications and technical documentation, personnel training and training equipment, U.S. Government and contractor engineering, technical and logistics support services; and other related elements of logistical and program support. The total estimated value is $1.40 billion.

This proposed sale will support the foreign policy and national security of the United States by helping to improve the security of a major ally that is a force for political stability, and economic progress in the Asia-Pacific region. The proposed sale will improve New Zealand's capability to meet current and future threats by enhancing its current airlift capability.

This proposed sale will provide the capability to support national, United Nations, and other coalition operations. This purchase also includes sensors and performance improvements that will assist New Zealand during extensive maritime surveillance and reconnaissance as well as improve its search and rescue capability. Additionally, the extra cargo capacity and aircraft performance will greatly increase New Zealand's Antarctic mission capabilities while simultaneously increasing safety margins. New Zealand currently operates the C-l30H aircraft and will have no difficulty absorbing this equipment and support into its armed forces.

The proposed sale of this equipment and support will not alter the basic military balance in the region.

The prime contractor will be Lockheed Martin, Ft Worth, TX. There are no known offset agreements proposed in connection with this potential sale.

Implementation of this sale will require the assignment of up to three U.S. contractor representatives to New Zealand.

There will be no adverse impact on U.S. defense readiness as a result of this proposed sale.

Transmittal No. 19-69

Notice of Proposed Issuance of Letter of Offer Pursuant to Section 36(b)(1) of the Arms Export Control Act

Annex

Item No. vii

(vii) Sensitivity of Technology:

1. The C-130J Hercules with Rolls Royce AE 2100D Turboprop Engines is a military airlift aircraft that performs primarily the tactical portion of the airlift mission. The aircraft is capable of operating from rough, dirt strips and is the prime transport for air dropping troops and equipment into hostile areas. The C-130J improvements over the C-130E include improved maximum speed, climb time, cruising altitude and range. The C-130J has 55 feet of cargo compartment length, an additional 15 feet over the original “short“ aircraft. Hardware is UNCLASSIFIED. Technical data and documentation to be provided is UNCLASSIFIED.

2. Embedded GPS-INS (EGI) LN-260 is a sensor that combines GPS and inertial sensor inputs to provide accurate location information for navigation and targeting.

3. Multifunctional Information Distribution System (MIDS) is an advanced Link-16 command, control, communications, and intelligence (C3I) system incorporating high-capacity, jam-resistant, digital communication links for exchange of near realtime tactical information, including both data and voice, among air, ground, and sea elements. The MIDS terminal hardware, publications, performance specifications, operational capability, parameters, vulnerabilities to countermeasures, and software documentation are classified CONFIDENTIAL. The classified information to be provided consists of that which is necessary for the operation, maintenance, and repair (through intermediate level) of the data link terminal, installed systems, and related software.

4. The AN/AAQ-24(V)N LAIRCM is a self-contained, directed energy countermeasures system designed to protect aircraft from infrared-guided surface-to-air missiles. The system features digital technology and micro-miniature solid-state electronics. The system operates in all conditions, detecting incoming missiles and jamming infrared-seeker equipped missiles with aimed bursts of laser energy. The LAIRCM system consists of multiple Missile Warning Sensors, Guardian Laser Turret Assemblies (GLTA), LAIRCM System· Processor Replacement (LSPR), Control Indicator Unit Replacement (CIUR), and a classified User Data Memory (UDM) card containing the laser jam codes. The UDM card is loaded into LAIRCM System Processor Replacement (LSPR) prior to flight; when not in use, the UDM card is removed from the LSPR and put in secure storage. The Missile Warning Sensors (MWS) for AN/AAQ-24 (V)N are mounted on the aircraft exterior to provide omni-directional protection. The MWS detects the rocket plume of missiles and sends appropriate data signals to the LSPR for processing. The LSPR analyzes the data from each sensor and automatically deploys the appropriate countermeasure via the GLTA. The CIUR displays the incoming threat. The LSPR also contains Built-In-Test (BIT) circuitry.

5. The AN/ALE-47 Counter-Measures Dispensing System (CMDS) is an integrated, threat-adaptive, software-programmable dispensing system capable of dispensing chaff, flares, and active radio frequency expendables. The threats countered by the CMDS include radar-directed anti-aircraft artillery, radar command-guided missiles, radar homing guided missiles, and infrared guided missiles. The system is internally mounted and may be operated as a stand-alone system or may be integrated with other on-board EW and avionics systems. The AN/ALE-47 uses threat data received over the aircraft interfaces to assess the threat situation and to determine a response. Expendable routines tailored to the immediate aircraft and threat environment may be dispensed using one of four operational modes. Hardware is UNCLASSIFIED. Technical data and documentation to be provided is UNCLASSIFIED.

6. The AN/AAR-47A(V)2 Missile Warning System is a small, lightweight, passive, electro-optic, threat warning device used to detect surface-to-air missiles fired at helicopters and low-flying fixed-wing aircraft and automatically provide countermeasures, as well as audio and visual-sector warning messages to the aircrew. The basic system consists of multiple Optical Sensor Converter (OSC) units, a Computer Processor (CP) and a Control Indicator (Cl). The set of OSC units, which normally consist of four, is mounted on the aircraft exterior to provide omnidirectional protection. The OSC detects the rocket plume of missiles and sends appropriate signals to the CP for processing. The CP analyses the data from each OSC and automatically deploys the appropriate countermeasures. The CP also contains comprehensive BIT circuitry. The CI displays the incoming direction of the threat, so that the pilot can take appropriate action. Hardware is UNCLASSIFIED. Technical data and documentation to be provided is UNCLASSIFIED.

7. The AN/ALR-56M Advanced Radar Warning Receiver continuously detects and intercepts RF signals in certain frequency ranges and analyzes and separates threat signals from non-threat signals. It contributes to full-dimensional protection by providing individual aircraft probability of survival through improved aircrew situational awareness of the radar guided threat environment. The ALR-56M is designed to provide improved performance in a dense signal environment and improved detection of modern threats signals. Hardware is UNCLASSIFIED. Technical data and documentation to be provided is UNCLASSIFIED.

8. Joint Mission Planning System (JMPS) is a multi-platform PC based mission planning system. JMPS hardware is UNCLASSIFIED but the software is classified up to SECRET.

9. The MX-20HD is a gyro-stabilized, multi-spectral, multi field of view ElectroOptical/ Infrared (EO/IR) system. The system provides surveillance laser illumination and laser designation through use of an externally mounted turret sensor unit and internally mounted master control. Sensor video imagery is displayed in the aircraft real time and may be recorded for subsequent ground analysis.

10. This sale will involve the release of sensitive and/or classified cryptographic equipment for secure communications radios, precision navigation, and cryptographic appliques and keying equipment. The hardware is UNCLASSIFIED, except where systems are loaded with cryptographic software, which may be classified up to SECRET.

11. If a technologically advanced adversary were to obtain knowledge of the specific hardware and software elements, the information could be used to develop countermeasures that might reduce weapon system effectiveness or be used in the development of a system with similar or advanced capabilities.

12. A determination has been made that New Zealand can provide substantially the same degree of protection for the sensitive technology being released as the U.S. Government. This sale is necessary in furtherance of the U.S. foreign policy and national security objectives outlined in the Policy Justification.

13. All defense articles and services listed in this transmittal are authorized for release and export to the Government of New Zealand.

[FR Doc. 2019-27650 Filed 12-20-19; 8:45 am]

BILLING CODE 5001-06-P